DEPARTMENT OF COMMERCE

Foreign-Trade Zones Board

[B-3-2013]

Foreign-Trade Zone 45—Portland, Oregon; Application for Reorganization and Expansion Under Alternative Site Framework

An application has been submitted to the Foreign-Trade Zones (FTZ) Board (the Board) by the Port of Portland, grantee of FTZ 45, requesting authority to reorganize and expand the zone under the alternative site framework (ASF) adopted by the Board (15 CFR Sec. 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally docketed on January, 15, 2013.

FTZ 45 was approved by the Board on December 18, 1978 (Board Order 140, 43 FR 60323, 12/27/1978) and expanded on April 5, 1991 (Board Order 518, 56 FR 16067, 04/19/1991). The current zone includes the following sites: Site 1 (1,830 acres)—Rivergate Industrial Park, Port Terminal Nos. 5 and 6, and the adjacent Oregon Steel Mills facilities, North Marine Drive and North Lombard Street, Portland; Site 2 (1,163 acres)—Portland International Airport and adjacent Portland International Center, 7000 NE Airport Way and NE Alderwood Road, Portland; Site 3 (254 acres)—Portland Ship Repair Yard, 5555 N. Channel Avenue, Portland; Site 4 (43 acres)—Port Terminal No. 1, 2220 NW Front Street, Portland; Site 5 (49 acres)—Port Terminal No. 2, 3556 NW Front Street, Portland; Site 6 (241 acres)—Port Terminal No. 4, Port Terminal Road and North Lombard Street, Portland; Site 7 (4 acres)—Tektronix Inc. 14400 SW Millikan Way, Beaverton; and, Site 8 (2.5 acres)—Physical Distribution, Inc., 3610 N. Suttle Road, Portland.

The grantee's proposed service area under the ASF would be all of Clackamas, Multnomah and Washington Counties, Oregon, as described in the application. If approved, the grantee would be able to serve sites throughout the service area based on companies' needs for FTZ designation. The proposed service area is within and adjacent to the Portland, Oregon U.S. Customs and Border Protection port of entry.

The applicant is requesting authority to reorganize its existing zone project to include Sites 1, 2, 3 and 6 as “magnet” sites and Site 7 as a “usage-driven” site. The ASF allows for the possible exemption of one magnet site from the “sunset” time limits that generally apply to sites under the ASF, and the applicant proposes that Site 1 be so exempted. The applicant is also requesting as part of the reorganization that Sites 4, 5 and 8 be removed from the zone project and that acreage be reduced at Site 2. In addition, the applicant is also requesting the approval of the following new magnet site: Proposed Site 9 (173 acres)—Gresham Vista Business Park, NE Glisan Street and SE Stark Street, between NE 223rd and NE 242nd Avenues, Gresham (Multnomah County). The application would have no impact on FTZ 45's previously authorized subzones.

In accordance with the Board's regulations, Christopher Kemp of the FTZ Staff is designated examiner to evaluate and analyze the facts and information presented in the application and case record and to report findings and recommendations to the Board.

Public comment is invited from interested parties. Submissions shall be addressed to the Board's Executive Secretary at the address below. The closing period for their receipt is March 25, 2013. Rebuttal comments in response to material submitted during the foregoing period may be submitted during the subsequent 15-day period to April 8, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: January 15, 2013.
Andrew McGilvray,
Executive Secretary.

[FR Doc. 2013-01184 Filed 1-18-13; 8:45 am]

BILLING CODE 3510-DS-P